DEPARTMENT OF ENERGY

Notice of Request for Information (RFI) on Research and Development Opportunities for Innovations in Sensors and Controls for Building Energy Management

AGENCY: Office of Energy Efficiency and Renewable Energy, Department of Energy (DOE).

ACTION: Request for information (RFI).

SUMMARY: The U.S. Department of Energy (DOE) invites public comment on its Request for Information (RFI) on research and development opportunities for innovations in sensors and controls for building energy management. Through this RFI, the Office of Energy Efficiency and Renewable Energy (EERE) Building Technologies Office (BTO) seeks input on research and development opportunities for the integration and optimization of systems at the whole-building level through connected and controllable loads for increased energy affordability, improved occupant comfort, and enhanced provision of grid services that will strengthen the integration between buildings, other distributed energy resources, and the electric grid. This RFI will inform BTO's strategic planning moving forward in identifying early-stage and innovative technology solutions to meet these goals. Successful solutions will strengthen the affordability, reliability, and resiliency of the energy consumed by the buildings sector, contributing to DOE's priorities for the energy sector as a whole.

DATES: Responses to the RFI must be received by 5:00 p.m. (ET) on June 3rd, 2019.

ADDRESSES: Interested parties are to submit comments electronically to BTO_SensorsControls_RDO@ee.doe.gov. Include “Research and Development Opportunities for Innovations in Sensors and Controls for Building Energy Management” in the subject of the title. Responses must be provided as attachments to an email. It is recommended that attachments with file sizes exceeding 25MB be compressed (i.e., zipped) to ensure message delivery. Responses must be provided as a Microsoft Word (.docx) attachment to the email, and no more than 10 pages in length, 12 point font, 1 inch margins. Only electronic responses will be accepted.

Please identify your answers by responding to a specific question or topic if applicable. Respondents may answer as many or as few questions as they wish.

EERE will not respond to individual submissions or publish publicly a compendium of responses. A response to this RFI will not be viewed as a binding commitment to develop or pursue the project or ideas discussed.

Respondents are requested to provide the following information at the start of their response to this RFI:

• Company/institution name;

• Company/institution contact;

• Contact's address, phone number, and email address.

The complete RFI document is located at https://eere-exchange.energy.gov/.

FOR FURTHER INFORMATION CONTACT: Question may be addressed to BTO_SensorsControls_RDO@ee.doe.gov or Marina Sofos, (202) 586-3492, marina.sofos@hq.doe.gov. or Erika Gupta, (202) 586-3152, erika.gupta@ee.doe.gov. Further instruction can be found in the RFI document posted on EERE Exchange.

SUPPLEMENTARY INFORMATION: The purpose of this RFI is to solicit feedback from industry, academia, research laboratories, government agencies, and other stakeholders on issues related to sensor and control technologies for optimizing building energy management. This information will be used by BTO to update its Sensors and Controls R&D strategy and supporting energy savings and cost reduction goals, as well as to inform future strategic planning and adjustments to its R&D portfolio. This is solely a request for information and not a Funding Opportunity Announcement (FOA). EERE is not accepting FOA applications. The RFI is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination. Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC on April 16, 2019.
David Nemtzow,
Director, Building Technologies Office.

[FR Doc. 2019-08274 Filed 4-23-19; 8:45 am]

BILLING CODE 6450-01-P